MORRIS K. UDALL SCHOLARSHIP AND EXCELLENCE IN NATIONAL ENVIRONMENTAL POLICY FOUNDATION

The United States Institute for Environmental Conflict Resolution; Agency Information Collection Activities: Submission for OMB Review; Comment Request; U.S. Institute for Environmental Conflict Resolution Application for Support from the Environmental Conflict Resolution Participation Program

AGENCY: Morris K. Udall Scholarship and Excellence in National Environmental Policy Foundation, U.S. Institute for Environmental Conflict Resolution.

ACTION: Notice.

SUMMARY: In compliance with the Paperwork Reduction Act (44 U.S.C. 3501 et seq.) and supporting regulations, this document announces that the U.S. Institute for Environmental Conflict Resolution (the U.S. Institute), part of the Morris K. Udall Foundation, is submitting the following Information Collection Request (ICR) to the Office of Management and Budget (OMB): Application for Support from the Environmental Conflict Resolution Participation Program. The ICR describes the nature of the information collection and its expected burden and cost. This document provides information on the need for the ECR Participation Program, information to be provided by applicants in the application form, and estimates the public burden associated with applying for and documenting activities conducted under the ECR Participation Program. Applications will not be accepted by the U.S. Institute until all Paperwork Reduction Act requirements are fulfilled.

DATES: Comments must be submitted on or before March 4, 2002.

ADDRESSES: Send comments referencing “ECR-Participation Program” to the following addresses: David P. Bernard, Associate Director, U.S. Institute for Environmental Conflict Resolution, 110 South Church Avenue, Suite 3350, Tucson, Arizona 85701, and Amy Farrell, Office of Management and Budget, 725 17th Street, N.W., Washington, DC 20503.

FOR FURTHER INFORMATION CONTACT: Please direct comments and requests for information, including copies of the ICR, to: David P. Bernard, Associate Director, U.S. Institute for Environmental Conflict Resolution, 110 South Church Avenue, Suite 3350, Tucson, Arizona 85701, Fax: 520-670-5530; Phone: 520-670-5299; E-mail: bernard@ecr.gov.

SUPPLEMENTARY INFORMATION:

A. Title for the Collection of Information

Application for Support from the Environmental Conflict Resolution Participation Program

B. Potentially Affected Persons

State and local governments and agencies, tribes, and non-governmental organizations who may apply to the U.S. Institute for support to initiate multi-party, neutral-led conflict resolution processes on environmental and natural resource issues involving federal agencies or interests.

C. Questions To Consider in Making Comments

The Office of Management and Budget (OMB) requests your comments and responses to any of the following questions related to collecting information as part of the Application for Support from the Environmental Conflict Resolution Participation Program.

1. Is the proposed application process (“collection of information”) necessary for the proper performance of the functions of the agency, including whether the information will have practical utility?

2. Is the agency's estimate of the time spent completing the application (“burden of the proposed collection of information”) accurate, including the validity of the methodology and assumptions used?

3. Can you suggest ways to enhance the quality, utility, and clarity of the information collected?

4. Can you suggest ways to minimize the burden of the information collection on those who are to respond, including through the use of appropriate automated electronic, mechanical, or other technological collection techniques or other forms of information technology?

D. Abstract

The U.S. Institute for Environmental Conflict Resolution plans to collect information in an application form to be submitted by entities and organizations for the purpose of documenting the need for U.S. Institute support, both technical and financial, for specific conflict resolution projects. Through the Environmental Conflict Resolution (ECR) Participation Program, the U.S. Institute will help provide neutral facilitation and convening services, and related participation support, for initiation of agreement-focused environmental conflict resolution processes. State and local governments and agencies, tribes, and non-governmental organizations, may apply for support when needed to create balanced stakeholder involvement processes involving federal agencies or interests.

Responses to the collection of information (the application) are voluntary, but are required to obtain a benefit (financial or technical support from the U.S. Institute.) The U.S. Institute may not conduct or sponsor, and a person is not required to respond to, a collection of information unless it displays a currently valid OMB control number.

Background Information: U.S. Institute for Environmental Conflict Resolution. The U.S. Institute for Environmental Conflict Resolution was created in 1998 by the Environmental Policy and Conflict Resolution Act (P.L. 105-156). The U.S. Institute is located in Tucson, Arizona and is part of the Morris K. Udall Foundation, an independent agency of the executive branch of the federal government. The U.S. Institute's primary purpose is to provide impartial, non-partisan assistance to parties in conflicts involving environmental, natural resources, and public lands issues involving a federal interest. The U.S. Institute provides assistance in seeking agreement or resolving disputes through use of mediation and other collaborative, non-adversarial means.

The Need for and Proposed Use of the Information Collected in the Application for the ECR Participation Program: The ECR Participation Program is designed to achieve several objectives, consistent with the U.S. Institute's mission of promoting resolution of environmental disputes involving federal agencies. The specific objectives for this program are:

• To further the U.S. Institute goal of increasing the use of ECR in environmental, natural resource, and public lands conflicts that involve federal agencies.

• To encourage high quality dispute resolution processes by supporting appropriate use of ECR strategies and appropriate balance among interests involved in the processes.

• To support the ability of all affected parties to participate effectively in ECR processes.

The U.S. Institute conducted an assessment of the need for support to foster participation by all essential parties in ECR efforts early in 2001. The U.S. Institute consulted with representatives of constituencies who would be potential users of this program to ascertain their views of the need for ECR participation support. Representatives of environmental groups, natural resource users, tribes, local and state governments, and ECR practitioners provided information about the specific needs for such a fund and about criteria for eligibility.

The consultative contacts identified the following needs for participation support.

• Many opportunities exist to build consensus on environmental and natural resource issues, but the parties are often unable to do so without neutral, third party assistance.

• State, local, non-governmental, and tribal entities often lack the technical and financial resources to obtain neutral feasibility assessments, ECR process design and facilitation.

• Third party assistance is often required to ensure balanced representation, or a level playing field, for non-governmental, state and local groups, and others who are not paid to participate in environmental negotiations and collaborative processes.

• There is also a need to provide training in interest-based negotiations for those working to overcome serious differences on environmental and natural resource issues.

• A participation support program should be easy to use and accessible to all types of applicants involved in ECR processes, but particularly to groups and situations that would be less likely than others to succeed without it.

Draft Guideline and Sample Application Form

The U.S. Institute has developed guidelines and an application form to gather information about ECR processes for which support was requested. This provides the U.S. Institute with a mechanism for determining if the applicants meet the criteria for receiving support and for targeting support to the most promising ECR efforts (i.e. those likely to produce implementable results through collaboration.) The proposed Guidelines and sample Application form are located on the U.S. Institute's website, at www.ecr.gov/new.htm#ecr. It is expected that the ECR Participation Program will be open for applications through March, 31, 2004, roughly two years from approval of the information collection request.

ICR Process

The first Federal Register notice was published on July 24, 2001, (66 (142): 38434-38440). No formal written comments were received. However, several organizations wrote to the U.S. Institute indicating an interest in the program, and asking to be notified when the program begins accepting funding applications.

E. Burden Statement

The annual public reporting and record keeping burden for this collection of information is estimated to average eight hours per response. As used here, burden means the total time, effort, or financial resources expended by persons to generate, maintain, retain, or disclose or provide information to or for a Federal agency. This includes the time needed to review instructions; develop, acquire, install, and utilize technology and systems for the purpose of collecting, validating, and verifying information, processing and maintaining information, and disclosing and providing information and transmitting information.

The Application Form will be available both in hard copy and through the U.S. Institute's web site. It is a two-page list of questions about the proposed ECR effort and the activities that require support. The application includes suggested budget formats, and is designed to allow applicants to attach existing documents and, where possible, reduce the time required for completion of the application. An application can be submitted electronically, through e-mail, and/or in hard copy via fax or mail. The required quarterly progress report form is also included in the application form attached to this submittal.

The Burden calculation includes time for applicants to complete the application form and the time required for the submittal of quarterly reports. It assumes a pool of 15 applicants per year, and assumes that 10 of the applications will be approved. Quarterly reports would be required only for those ten funded projects. It further assumes an average of four quarterly project reports per project.

Respondent Pool: State agency staff, local government staff, non-governmental organizations, tribal governments, and natural resource user group association staff or members.

Estimated Number of Respondents (per year): 15.

Proposed Frequency of Response: One response per application, plus up to four quarterly progress reports per year.

Respondent Time Burden Estimates:

Time per Response for Initial Application: Eight hours.

Time per Responder for Quarterly Reports: 4 hours per year (1 hour per report).

Total Burden Per Year for Applications: 120 hours for 15 applicants.

Total Burden Per Year for Quarterly Reports: 40 hours for ten projects.

Respondent Cost Burden Estimates (managerial level salary at $55 per hour):

Capital or start-up costs | $0
Cost per Respondent per application | 440
Cost per Project for Quarterly Reports | 220
Total Annual Cost Burden for 15 Applications | 6,600
Total Annual Cost Burden for Quarterly Reports | 2,200
Total Annual Cost Burden | 8,800
Total Cost Burden, Two Years | 17,600

Send comments on the Agency's need for this information, the accuracy of the provided burden estimates, and any suggested methods for minimizing respondent burden, including through use of automated collection techniques to the addresses listed above. Please refer to ECR Participation Program in any correspondence.

(Authority: 20 USC Sec. 5601-5609).
Dated the 25th day of January 2002.
Christopher L. Helms,
Executive Director, Morris K. Udall Foundation.

[FR Doc. 02-2317 Filed 1-30-02; 8:45 am]

BILLING CODE 6820-FN-P